BROADCASTING BOARD OF GOVERNORS

Cancellation Notice

Date and Time: Wednesday, February 14, 2007, 1:30-2 p.m.

Place: Middle East Broadcasting Networks, Inc, Suite D, 7600 Boston Boulevard, Springfield, VA 22153.

Please be advised that the above meeting was canceled due to inclement weather.

Contact Person for More Information: Persons interested in obtaining more information should contact Carol Booker at (202) 203-4545.

Dated: February 27, 2007.
Carol Booker,
Legal Counsel.

[FR Doc. 07-1171 Filed 3-8-07; 12:33 pm]

BILLING CODE 8230-01-M